NUCLEAR REGULATORY COMMISSION

[Docket No. 030-06021]

Notice of Availability of Environmental Assessment and Finding of No Significant Impact for ROHM & HAAS Company's Facility in Philadelphia, PA

AGENCY: Nuclear Regulatory Commission.

ACTION: Notice of availability.

FOR FURTHER INFORMATION CONTACT: John Nicholson, Commercial and R&D Branch, Division of Nuclear Materials Safety, Region I, 475 Allendale Road, King of Prussia, Pennsylvania 19406, telephone (610) 337-5236, fax (610) 337-5269; or by e-mail: jjn@nrc.gov.

SUPPLEMENTARY INFORMATION:

I. Introduction

The U.S. Nuclear Regulatory Commission (NRC) is considering the issuance of a license amendment to Rohm & Haas Company for Materials License No. 037-01665-01, to authorize release of its facility in Philadelphia, Pennsylvania, for unrestricted use and license termination. NRC has prepared an Environmental Assessment (EA) in support of this proposed action in accordance with the requirements of 10 CFR Part 51. Based on the EA, the NRC has concluded that a Finding of No Significant Impact (FONSI) is appropriate. The amendment will be issued following the publication of this Notice.

II. EA Summary

The purpose of the proposed action is to authorize the release of the licensee's Philadelphia, Pennsylvania facility for unrestricted use. Rohm & Haas Company was authorized by NRC (AEC at the time) from 1956 to use radioactive materials for research and development purposes at the site. On April 26, 2005, Rohm & Haas Company requested that NRC release the facility for unrestricted use. Rohm & Haas Company has conducted surveys of the facility and provided information to the NRC to demonstrate that the site meets the license termination criteria in Subpart E of 10 CFR Part 20 for unrestricted use.

The NRC staff has prepared an EA in support of the license amendment. The facility was remediated and surveyed prior to the licensee requesting the license amendment. The NRC staff has reviewed the information and final status survey submitted by Rohm & Haas Company. As discussed in the EA, the staff has determined that the residual radioactivity meets the requirements in Subpart E of 10 CFR Part 20.

III. Finding of No Significant Impact

The staff has prepared the EA (summarized above) in support of the license amendment to release the facility for unrestricted use. The NRC staff has evaluated Rohm & Haas Company's request and the results of the surveys and has concluded that the completed action complies with the criteria in Subpart E of 10 CFR Part 20. The staff has found that the radiological environmental impacts from the action are bounded by the impacts evaluated by NUREG-1496, Volumes 1-3, “Generic Environmental Impact Statement in Support of Rulemaking on Radiological Criteria for License Termination of NRC-Licensed Facilities” (ML042310492, ML042320379, and ML042330385). Additionally, no non-radiological or cumulative impacts were identified. On the basis of the EA, the NRC has concluded that the environmental impacts from the action are expected to be insignificant and has determined not to prepare an environmental impact statement for the action.

IV. Further Information

Documents related to this action, including the application for the license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are: Environmental Assessment (ML053570288); Final Status Survey and amendment request dated April 26, 2005 [ADAMS Accession No. ML051390274]; Letter dated May 16, 2005 providing additional information [ADAMS Accession No. ML051510089]; Letter dated May 27, 2005 providing additional information [ADAMS Accession No. ML051590269]; Letter dated May 31, 2005 providing additional information [ADAMS Accession No. ML051590359]; and Letter dated June 29, 2005 providing additional information [ADAMS Accession No. ML051880162]. Persons who do not have access to ADAMS or who encounter problems in accessing the documents located in ADAMS, should contact the NRC PDR Reference staff by telephone at (800) 397-4209 or (301) 415-4737, or by e-mail to pdr@nrc.gov.

Documents related to operations conducted under this license not specifically referenced in this Notice may not be electronically available and/or may not be publicly available. Persons who have an interest in reviewing these documents should submit a request to NRC under the Freedom of Information Act (FOIA). Instructions for submitting a FOIA request can be found on the NRC's Web site at http://www.nrc.gov/reading-rm/foia/foia-privacy.html.

Dated at King of Prussia, Pennsylvania, this 23rd day of December 2005.
For the Nuclear Regulatory Commission.
James P. Dwyer,
Chief, Commercial and Research & Development Branch, Division of Nuclear Materials Safety, Region I.

[FR Doc. E5-8205 Filed 12-30-05; 8:45 am]

BILLING CODE 7590-01-P